DEPARTMENT OF THE TREASURY

Customs Service

Notice of Cancellation of Customs Broker License

AGENCY: Customs Service, Department of the Treasury.

ACTION: General notice.

SUMMARY: Pursuant to section 641 of the Tariff Act of 1930, as amended, (19 USC 1641) and the Customs Regulations (19 CFR 111.51), the following Customs broker license is canceled without prejudice.

Name | License No. | Port name
Kamden International Shipping, Inc | 11431 | New York

Dated: February 14, 2002.
Bonni G. Tischler,
Assistant Commissioner, Office of Field Operations.

[FR Doc. 02-4124 Filed 2-13-02; 8:45 am]

BILLING CODE 4820-02-P